DEPARTMENT OF COMMERCE

International Trade Administration

[A-570-855]

Certain Non-Frozen Apple Juice Concentrate From the People's Republic of China: Extension of Time Limit for the Preliminary Results of the 2001-2002 Antidumping Duty Administrative Review and New Shipper Review

AGENCY: Import Administration, International Trade Administration, Department of Commerce.

ACTION: Extension of Time Limit.

SUMMARY: The Department of Commerce is extending the time limit for the preliminary results of the 2001-2002 administrative review of the antidumping duty order and new shipper review on certain non-frozen apple juice concentrate from the People's Republic of China. The period of review is June 1, 2001, through May 31, 2002. This extension is made pursuant to section 751(a)(3)(A) of the Tariff Act of 1930, as amended.

EFFECTIVE DATE: January 24, 2003.

FOR FURTHER INFORMATION CONTACT: Audrey Twyman, or John Brinkmann, Import Administration, International Trade Administration, U.S. Department of Commerce, 14th Street and Constitution Avenue, NW, Washington, DC 20230; telephone: (202) 482-3534, or (202) 482-4126, respectively.

SUPPLEMENTARY INFORMATION:

Statutory Time Limits

Section 751(a)(3)(A) of the Tariff Act of 1930 (“the Act”) requires the Department of Commerce (“Department”) to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively. The order in this review was published on June 5, 2000. (See Notice of Amended Determination of Sales at Less than Fair Value and Antidumping Duty Order: Certain Non-frozen Apple Juice Concentrate from the PRC, 65 FR 35606 (June 5, 2000)).

Background

On July 24, 2002, the Department published in the Federal Register the notice of initiation of the antidumping administrative review on certain non-frozen apple juice concentrate from the People's Republic of China (PRC). (See Notice of Initiation of Antidumping and Countervailing Duty Administrative Reviews and Requests for Revocation in Part, 67 FR 48435 (July 24, 2002)). The preliminary results are currently due on March 2, 2003. On July 24, 2002, the Department also published in the Federal Register the notice of initiation of antidumping new shipper review on certain non-frozen apple juice concentrate from the People's Republic of China (PRC). (See Notice of Initiation of Antidumping New Shipper Review, 67 FR 48440 (July 24, 2002)). On July 26, 2002, Gansu Tongda Fruit Juice and Beverage Co., Ltd., the respondent in the new shipper review, submitted a letter consenting to alignment of the new shipper review with the 2001-2002 administrative review pursuant to 19 CFR 351.214(j)(3).

Extension of Time Limits for Preliminary Results

Due to the complexity of the issues involving surrogate selection and factor values, it is not practicable to complete this review within the originally anticipated time limit (i.e., March 2, 2003). Therefore, in accordance with section 751(a)(3)(A) of the Act, the Department is postponing the preliminary results of this administrative review for 120 days, until no later than June 30, 2003.

This notice is published pursuant to sections 751(a)(1) and 777(i)(1) of the Act.

Dated: January 17, 2003.
Susan Kuhbach,
Acting Deputy Assistant Secretary for Import Administration.

[FR Doc. 03-1653 Filed 1-23-03; 8:45 am]

BILLING CODE 3510-DS-S